DEPARTMENT OF COMMERCE

National Oceanic and Atmospheric Administration

[RTID 0648-XR086]

Endangered and Threatened Species; Recovery Plans

AGENCY: National Marine Fisheries Service (NMFS), National Oceanic and Atmospheric Administration (NOAA), Commerce.

ACTION: Notice of availability; request for comments.

SUMMARY: This notice announces the availability of the Black Abalone (Haliotis cracherodii) Draft Recovery Plan (Plan) for public review. NMFS is soliciting review and comment from the public and all interested parties on the Plan, and will consider all substantive comments received during the review period before submitting the Plan for final approval.

DATES: Comments and information on the draft Plan must be received by close of business on March 30, 2020.

ADDRESSES: You may submit comments on this document by either of the following methods:

• Electronic Submission: Submit all electronic public comments via the Federal e-Rulemaking Portal at www.regulations.gov/. The Docket Number is: NOAA-NMFS-2020-0016. Click the `Comment Now!” icon, complete the required fields, and enter or attach your comments.

• Mail: Submit written comments to the National Marine Fisheries Service, Attn: Black Abalone Recovery Team, 501 West Ocean Boulevard, Suite 4200, Long Beach, CA 90802.

Instructions: You must submit comments by one of the above methods to ensure that we receive, document, and consider them. Comments sent by any other method, to any other address or individual, or received after the end of the comment period, may not be considered. All comments received are a part of the public record and will generally be posted for public viewing without change. All personal identifying information (e.g., name, address, etc.), confidential business information, or otherwise sensitive information submitted voluntarily by the sender will be publicly accessible.

The draft recovery plan is available online at: https://www.fisheries.noaa.gov/resource/document/recovery-plan-outline-black-abalone.

FOR FURTHER INFORMATION CONTACT: NMFS West Coast Region Protected Resources Division: Susan Wang at (562) 980-4199 or Susan.Wang@noaa.gov; or Melissa Neuman at (562) 980-4115 or Melissa.Neuman@noaa.gov.

SUPPLEMENTARY INFORMATION:

Background

On January 14, 2009, we, NMFS, listed the black abalone as an endangered species under the Endangered Species Act (74 FR 1937). This determination was based on the high risk of extinction faced by black abalone due to low abundance, low growth and productivity, compromised spatial structure and population connectivity, loss of genetic diversity, and the continued threat of the disease called withering syndrome. This disease was identified as the primary threat contributing to the decline of black abalone. This determination was based on a suite of risks that black abalone face, including: (1) A disease called withering syndrome that caused mass mortalities of populations throughout a large portion of the species' range; (2) low adult densities below the critical threshold needed for successful spawning and recruitment; (3) elevated water temperatures that accelerate the spread of withering syndrome; (4) loss of genetic diversity making populations less able to adapt to environmental changes; and (5) illegal harvest. On October 27, 2011, we designated critical habitat for black abalone throughout the coast of California (76 FR 66806). In 2013, we convened a recovery team to assist the NMFS West Coast Region with developing the draft recovery plan. We completed a recovery outline in 2016. In 2016, we announced initiation of a five-year review for black abalone (81 FR 93902). We completed the five-year review in 2018 and determined that black abalone should remain listed as endangered under the ESA. The five-year review is available at: https://www.fisheries.noaa.gov/resource/document/endangered-species-act-5-year-status-review-black-abalone-haliotis-cracherodii.

Draft Recovery Plan

Recovery plans describe actions beneficial to the conservation and recovery of species listed under the ESA of 1973, as amended (16 U.S.C. 1531 et seq.). Section 4(f)(1) of the ESA requires that recovery plans incorporate, to the maximum extent practicable: (1) A description of such site-specific management actions as may be necessary to achieve the plan's goals for the conservation and survival of the species; (2) objective, measurable criteria which, when met, would result in a determination that the species be removed from the list; and (3) estimates of the time required and the cost necessary to carry out those measures needed to achieve the plan's goal and to achieve intermediate steps toward that goal. The ESA requires the development of recovery plans for each listed species unless such a plan would not promote the conservation of the species.

The NMFS West Coast Region developed the Plan for black abalone in cooperation with a recovery team made up of experts from the California Department of Fish and Wildlife, Monterey Bay National Marine Sanctuary, NMFS Northwest Fisheries Science Center and Southwest Fisheries Science Center, National Park Service, Tenera Environmental, University of California at Santa Cruz, University of California at Davis Bodega Marine Laboratory, University of Oregon, University of Rhode Island, University of Washington, and U.S. Geological Survey.

NMFS' goal is to restore black abalone populations in the wild to the point where it is a self-sustaining species that no longer needs the protections of the ESA. The Plan gives a brief background on the natural history, status, and threats to black abalone. The Plan lays out a recovery strategy to address the threats based on the best available science, identifies site-specific actions with time lines and costs, and includes demographic and threats-based recovery criteria to gauge progress toward recovery. Demographic recovery criteria describe the characteristics of recovered, viable black abalone populations, and threats-based recovery criteria represent the conditions needed to minimize the impacts of threats and support the species' long-term viability.

The Plan is not regulatory, but presents guidance for use by agencies and interested parties to assist in the recovery of black abalone. To recover black abalone, the recommended recovery actions within the Plan aim to restore populations in southern California and Baja California that have experienced significant declines; maintain healthy populations in Central and North-Central California; promote planning, coordination, and research to address threats such as disease, contaminant spills and spill response activities, illegal take, and ocean acidification; and facilitate outreach and education with the public and law enforcement to support recovery efforts. Continued long-term monitoring of black abalone populations throughout their range will be critical to assessing the species' status and the effectiveness of the recovery actions.

We expect the Plan to inform section 7 consultations with Federal agencies under the ESA and to support other ESA decisions, such as considering research and enhancement or incidental take permits under section 10. NMFS and our partners have already begun implementation of several actions as described in the Plan. For example, many partners have been monitoring black abalone populations along the California coast for decades, since the mid-1970s at some sites. Researchers at the University of Washington and the University of California at Davis have been conducting disease research since the 1990s. In addition, the California Department of Fish and Wildlife coordinates with NMFS to address enforcement issues and spill response plans. After public comment and the adoption of the Final Recovery plan, we will continue to implement actions for which we have authority, encourage other Federal and state agencies to implement recovery actions for which they have authority, and work cooperatively with them to implement those actions.

The total time and cost to recovery are difficult to predict. The total time to recovery will depend on several factors. Those include: (1) Our ability to address threats such as disease and spills, which are difficult to manage with much certainty; (2) the species' biological constraints, such as episodic recruitment events; (3) the effectiveness of the recommended actions to achieve the Recovery Criteria and any adaptations needed as we learn more through implementation; and (4) the availability of funding to carry out the recovery actions.

We can predict that recovery will likely take decades and at a minimum about 20 years. To generate a minimum cost estimate, we assumed that annual costs for each activity would be similar to those estimated for the first five years of implementation. For the minimum time frame of 20 years, we estimate that recovery will cost approximately $16 million.

Authority: 16 U.S.C. 1531 et seq.

Dated: January 27, 2020.
Angela Somma,
Chief, Endangered Species Conservation Division, Office of Protected Resources, National Marine Fisheries Service.

[FR Doc. 2020-01685 Filed 1-29-20; 8:45 am]

BILLING CODE 3510-22-P